DEPARTMENT OF THE INTERIOR

National Park Service

National Register of Historic Places; Notification of Pending Nominations

Nominations for the following properties being considered for listing in the National Register were received by the National Park Service before July 7, 2001. Pursuant to section 60.13 of 36 CFR part 60 written comments concerning the significance of these properties under the National Register criteria for evaluation may be forwarded to the National Register, National Park Service, 1849 C St. NW, NC400, Washington, DC 20240. Written comments should be submitted by August 1, 2001.

Carol D. Shull,
Keeper of the National Register of Historic Places.

GEORGIA

Chatham County

New Ogeechee Missionary Baptist Church, 751 Chevis Rd., Savannah, 01000854

IDAHO

Bingham County

Eastern Idaho District Fair Historic District, 97 Park Dr., Blackfoot, 01000864

Bonner County

Sandpoint Federal Building, 419 N. Second Ave., Sandpoint, 01000836

Kootenai County

Kootenai County Jail, 802 Second St., Rathdrum, 01000834

ILLINOIS

Coles County

Sixth, Seventh, and Tenth Street Stone Arch Bridges, 700 blks of Sixth, Seventh and Tenth Sts., Charleston, 01000869

Cook County

Berwyn Municipal Building, 6700 26th St., Berwyn, 01000865

Building at 5510 North Sheridan, 5510 N. Sheridan Rd., Chicago, 01000870

United States Post Office—Chicago, 433 W. Van Buren St., Chicago, 01000868

Lake County

Cook Memorial Library, 413 N. Milwaukee Ave., Libertyville, 01000867

McDonough County

King, Moses, Brick and Tile Works, 738 N. Coal St., Colchester, 01000866

IOWA

Lee County

McGreer, John, Barn and Crib, 2056 150th Ave., Donnellson, 01000859

Marion County

Vander Wilt, Dirk and Cornelia J., Cottage, 925 Broadway St., Pella, 01000856

Plymouth County

Le Mars Municipal Park and Golf Course Historic District (Conservation Movement in Iowa MPS),Jct. of Le Mars, 4th Ave., NE or IA 3, Le Mars, 01000858

Polk County

Henshie—Briggs Row House, 1106 High St., Des Moines, 01000855

Pottawattamie County

Bennett Building, 405 West Broadway, Council Bluffs, 01000861

Story County

Budd, Prof, J.L., Sarah M., and Etta Budd, House, 804 Kellogg Ave., Ames, 01000860

Winneshiek County

Burr Oak Savings Bank, 3608 236th Ave., Burr Oak, 01000857

MASSACHUSETTS

Suffolk County

Peabody, The, 195-197 Ashmont St., Boston, 01000872

Worcester County

West Sutton Historic District, Central Tpk., Douglas, Town Farm, West Sutton Rds., Sutton, 01000871

MINNESOTA

Renville County

Heins Block, 102-104 N. 9th St., Olivia, 01000842

MISSOURI

Buchanan County

South Fourth Street Commercial Historic District (St. Joseph, Missouri MPS) roughly bounded by S. 3rd, S. 5th, Charles and Messanie Sts., St. Joseph, 01000838

Jackson County

Waltower Building, 823 Walnut St., Kansas City, 01000837

Jasper County

Colonial Apartments, 406 Walnut St., Cathage, 01000835

St. Louis Independent City

Ford Motor Company Building, 4100 Forest Park Blvd., St. Louis (Independent City), 01000840

Stoddard County

Dexter Gymnasium, jct. of Park Lane and Fannetta St., Dexter, 01000839

NEVADA

Clark County

Spanish Trail, Old,—Mormon Road Historic District, from California border to Arizona across southern Nevada, through Las Vegas, Las Vegas, 01000863

NEW JERSEY

Monmouth County

Old Scots Burying Ground, Gordon's Corner Rd., Marlboro, 01000841

NEW YORK

Montgomery County

Glen Historic District, NY 30A, NY 161 and Logtown Rd., Glen, 01000844

Orange County

Belknap Stone House, NY 17K, Newburgh, 01000843

Boulders, The, 99 Shore Ave., Warwick, 01000848

Schoharie County

Best, Dr. Christopher S., House and Office, 34 Clauverwie St., Middleburgh, 01000849

Suffolk County

Bay Shore Hose Company No. 1 Firehouse, Second Ave., Bay Shore, 01000851

Bay Shore Methodist Episcopal Church, E. Main St., jct. Second Ave., Bay Shore, 01000847

Davis Town Meeting House, jct. of Middle Country Rd. and Coram-Mt. Sinai Rd., Coram, 01000850

Ulster County

Dutch Church, Old, Parsonage, 109 Pearl St., Kingston, 01000845

Westchester County

Nelson, Thomas, House, 1231 Seymour Ln., Peekskill, 01000846

TENNESSEE

Washington County

Thankful Baptist Church, 104 Water St., Johnson City, 01000852

TEXAS

Hemphill County

Battle of Lyman's Wagon Train (Battle Sites of the Red River War in the Texas Panhandle MPS), Address Restricted, Canadian, 01000875

Smith County

St. Louis Southwestern Railway (Cotton Belt) Passenger Depot (Tyler, Texas MPS), 100 blk. E. Oakwood St., at N. Spring St., Tyler, 01000873

Travis County

Perry Estate—St. Mary's Academy, 701 E. 41st St., Austin, 01000874

Wheeler County

Battle of Sweetwater Creek (Battle Sites of the Red River War in the Texas Panhandle MPS), Address Restricted, Mobeetie, 01000876

VIRGINIA

Lynchburg Independent City

Court House Hill—Downtown, Church, Clay, Court, Main Sts., roughly bounded by 5th through 13th Sts., Lynchburg (Independent City), 01000853

[FR Doc. 01-17824 Filed 7-16-01; 8:45 am]

BILLING CODE 4310-70-P